NUCLEAR REGULATORY COMMISSION

[Docket No. 52-043; NRC-2010-0215]

PSEG Power, LLC and PSEG Nuclear, LLC; PSEG Site Early Site Permit Application, Notice of Intent To Prepare an Environmental Impact Statement and Conduct Scoping Process

PSEG Power, LLC and PSEG Nuclear, LLC have submitted an application for an early site permit (ESP) for the PSEG Site, which is located on the southern part of Artificial Island on the east bank of the Delaware River in Lower Alloways Creek Township, Salem County, New Jersey. The application for the ESP was submitted by PSEG Power, LLC and PSEG Nuclear, LLC by letter dated May 25, 2010, pursuant to Title 10 of the Code of Federal Regulations (10 CFR), Part 52.

A notice of receipt and availability of the application including the environmental report (ER) was published in the Federal Register on June 18, 2010 (75 FR 34794). A notice of acceptance for docketing of the application for the ESP was published in the Federal Register on August 13, 2010 (75 FR 49539). A notice of hearing and opportunity to petition for leave to intervene will be published at a later date.

The purposes of this notice are (1) to inform the public that the U.S. Nuclear Regulatory Commission (NRC) will be preparing an environmental impact statement (EIS) as part of the review of the ESP application and (2) to provide the public with an opportunity to participate in the environmental scoping process as defined in 10 CFR 51.29. The NRC intends to invite the U.S. Army Corps of Engineers, Philadelphia District, to participate in the preparation of the EIS as a cooperating agency. The purpose of cooperation with the Corps is to develop an environmental impact statement that serves the needs of the NRC license decision process and the Corps' permit decision process. Also, to comply with Section 106 of the National Historic Preservation Act, the NRC staff intends to use the procedures outlined in 36 CFR 800.8(c) for the preparation of the EIS on the proposed action, in lieu of the procedures set forth at 36 CFR 800.3 through 800.6.

In accordance with 10 CFR 51.45 and 51.50, PSEG Power, LLC and PSEG Nuclear, LLC submitted the ER as part of the ESP application. The ER was prepared pursuant to 10 CFR parts 51 and 52 and is available for public inspection at the NRC Public Document Room (PDR) located at One White Flint North, 11555 Rockville Pike (first floor), Rockville, Maryland 20852 or from the Publicly Available Records (PAR) component of NRC Agencywide Documents Access and Management System (ADAMS). ADAMS is accessible at http://www.nrc.gov/reading-rm/adams.html, which provides access through the NRC Electronic Reading Room (ERR) link. The accession number in ADAMS for the environmental report is ML101480763. Persons who do not have access to ADAMS or who encounter problems in accessing the documents located in ADAMS should contact the NRC PDR Reference staff at 1-800-397-4209/301-415-4737 or via e-mail to pdr.resource@nrc.gov. The application may also be viewed on the Internet at http://www.nrc.gov/reactors/new-reactors/esp/pseg.html. In addition, the Penns Grove-Carneys Point Public Library, Penns Grove, New Jersey, the Pennsville Public Library, Pennsville, New Jersey and the Salem Free Public Library, Salem, New Jersey, have each agreed to maintain a copy of the ER and make it available for public inspection.

The following key reference documents related to the application and the NRC staff's review processes are available through the NRC Web site at http://www.nrc.gov:

a. 10 CFR part 51, Environmental Protection Regulations for Domestic Licensing and Related Regulatory Functions,

b. 10 CFR part 52, Licenses, Certifications, and Approvals for Nuclear Power Plants,

c. 10 CFR part 100, Reactor Site Criteria,

d. NUREG-1555, Standard Review Plans for Environmental Reviews for Nuclear Power Plants,

e. NUREG/BR-0298, Brochure on Nuclear Power Plant Licensing Process,

f. Regulatory Guide 4.2, Preparation of Environmental Reports for Nuclear Power Stations,

g. Regulatory Guide 4.7, General Site Suitability Criteria for Nuclear Power Stations,

h. Fact Sheet on Nuclear Power Plant Licensing Process,

i. Regulatory Guide 1.206, Combined License Applications for Nuclear Power Plants, and

j. Nuclear Regulatory Commission Policy Statement on the Treatment of Environmental Justice Matters in NRC Regulatory and Licensing Actions.

The regulations, NUREG-series documents, regulatory guides, and the fact sheet can be found under Document Collections in the ERR on the NRC webpage. The environmental justice policy statement can be found in the Federal Register, 69 FR 52040, August 24, 2004.

This notice advises the public that the NRC intends to gather the information necessary to prepare an EIS as part of the review of the application for the ESP at the PSEG Site. Possible alternatives to the proposed action (issuance of the ESP for the PSEG site) include no action and alternative sites. This notice is being published in accordance with NEPA and the NRC regulations found in 10 CFR part 51. As set forth in 10 CFR 51.20(b)(1), issuance of a ESP under 10 CFR part 52 is an action that requires an EIS.

The NRC will first conduct a scoping process for the EIS and thereafter will prepare a draft EIS for public comment. Participation in this scoping process by members of the public and local, State, Tribal, and Federal government agencies is encouraged. The scoping process for the draft EIS will be used to accomplish the following:

a. Define the proposed action that is to be the subject of the EIS,

b. Determine the scope of the EIS and identify the significant issues to be analyzed in depth,

c. Identify and eliminate from detailed study those issues that are peripheral or that are not significant,

d. Identify any environmental assessments and other EISs that are being or will be prepared that are related to but are not part of the scope of the EIS being considered,

e. Identify other environmental review and consultation requirements related to the proposed action,

f. Identify parties consulting with the NRC under the NHPA, as set forth in 36 CFR 800.8(c)(1)(i),

g. Indicate the relationship between the timing of the preparation of the environmental analyses and the Commission's tentative planning and decision-making schedule,

h. Identify any cooperating agencies and, as appropriate, allocate assignments for preparation and schedules for completing the EIS to the NRC and any cooperating agencies; and

i. Describe how the EIS will be prepared, including any contractor assistance to be used.

The NRC invites the following entities to participate in the scoping process:

a. The applicant, PSEG Power, LLC and PSEG Nuclear, LLC,

b. Any Federal agency that has jurisdiction by law or special expertise with respect to any environmental impact involved or that is authorized to develop and enforce relevant environmental standards,

c. Affected State and local government agencies, including those authorized to develop and enforce relevant environmental standards,

d. Any affected Indian tribe,

e. Any person who requests or has requested an opportunity to participate in the scoping process; and

f. Any person who intends to petition for leave to intervene.

In accordance with 10 CFR 51.26, the scoping process for an EIS may include a public scoping meeting to help identify significant issues related to a proposed activity and to determine the scope of issues to be addressed in an EIS. The NRC staff has elected to hold two identical public scoping meetings at the Performing Arts Theater (Davidow Hall), on the campus of Salem Community College (460 Hollywood Avenue, Carneys Point, New Jersey) on Thursday, November 4, 2010. The first meeting will convene at 1 p.m., and will continue until approximately 4 p.m. The second meeting will convene at 7 p.m. and will continue until approximately 10 p.m. The meetings will be transcribed and will include the following: (1) An overview by the NRC staff of the environmental review process, the proposed scope of the EIS, and the proposed review schedule; (2) an opportunity for interested government agencies, organizations, and individuals to submit comments on the environmental issues or the proposed scope of the EIS. Additionally, the NRC staff will host informal discussions for one hour prior to the start of each public meeting. No formal comments on the proposed scope of the EIS will be accepted during the informal discussions. To be considered, comments must be provided either at the transcribed public meeting or in writing, as discussed below. Persons may register to attend or present oral comments at the meeting on the scope of the EIS by contacting Mr. Allen H. Fetter or Ms. Alicia Williamson at 1-800-368-5642, extensions 8556 or 1878, respectively. In addition, persons can register via e-mail to the NRC at PSEGSite.ESPEIS@nrc.gov no later than November 1, 2010.

Members of the public may also register to speak at the meetings prior to the start of each session. Individual oral comments may be limited by the time available, depending on the number of persons who register. Members of the public who have not registered may also have an opportunity to speak, if time permits. Public comments will be considered in the scoping process for the EIS. If special equipment or accommodations are needed to attend or present information at the public meeting, such requests should be brought to Mr. Fetter's or Ms. Williamson's attention no later than October 27, 2010, so that the NRC staff can determine whether the request can be accommodated.

ADDRESSES: You may submit comments by any one of the following methods. Please include Docket ID NRC-2010-0215 in the subject line of your comments.

Federal Rulemaking Web site: Go to http://www.regulations.gov and search for documents filed under Docket ID NRC-2010-0215. Comments may be submitted electronically through this Web site. Address questions about NRC dockets to Carol Gallagher at 301-492-3668, or e-mail at Carol.Gallagher@nrc.gov.

Mail comments to: Members of the public may send written comments on the scope of the PSEG Site ESP environmental review to Cindy Bladey, Chief, Rules, Announcements, and Directives Branch (RADB), Division of Administrative Services, Office of Administration, Mail Stop: TWB-05-B01M, U.S. Nuclear Regulatory Commission, Washington, DC 20555-0001, or by fax to RADB at (301) 492-3446. To be considered in the scoping process, written comments must be postmarked or delivered by the comment period end date of December 14, 2010. Electronic comments may be sent by e-mail to the NRC at PSEGSite.ESPEIS@nrc.gov. Electronic submissions must be received no later than the comment period end date of December 14, 2010, to be considered in the scoping process.

Comments submitted in writing or in electronic form will be posted on the NRC Web site and on the Federal rulemaking Web site http://www.regulations.gov. Unless your comments contain sensitive information typically not released to the public by NRC policy, the NRC will make all comments publically available. Because your comments will not be edited to remove any identifying information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Document Availability: Publicly available documents related to this notice can be accessed using any of the methods described in this section.

Participation in the scoping process for the EIS does not entitle participants to become parties to the proceeding to which the EIS relates. Notice of a hearing regarding the application for COLs will be noticed separately in the Federal Register.

At the conclusion of the scoping process, the NRC will prepare a concise summary of the determination and conclusions on the scope of the environmental review including the significant issues identified and will make this summary publicly available. The staff will then prepare and issue for comment the draft EIS which will be the subject of a separate Federal Register notice and a separate public meeting. Copies of the draft EIS will be available for public inspection at the PDR through the above-mentioned address and one copy per request will be provided free of charge. After receipt and consideration of the comments, the NRC will prepare a final EIS, which will also be available to the public. Information about the proposed action, the EIS, and the scoping process may be obtained from Mr. Allen Fetter or Ms. Alicia Williamson at the U.S. Nuclear Regulatory Commission, Mail Stop T7-E18, Washington, DC 20555-0001, by phone at 1-800-368-5642, extensions 8556 or 1878, respectively or via e-mail to Allen.Fetter@nrc.gov or Alicia.Williamson@nrc.gov.

Dated at Rockville, Maryland, this 8th day of October 2010.
For the Nuclear Regulatory Commission.
Scott Flanders,
Director, Division of Site and Environmental Reviews, Office of New Reactors.

[FR Doc. 2010-25998 Filed 10-14-10; 8:45 am]

BILLING CODE 7590-01-P